DEPARTMENT OF COMMERCE

National Oceanic and Atmospheric Administration

[I.D. 100603B]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene public meetings of the Reef Fish Advisory Panel (AP)and the Standing and Special Reef Fish Scientific and Statistical Committee (SSC) from October 28 through October 29, 2003.

DATES: The Council's Reef Fish AP and SSC will convene jointly at 1 p.m. on Tuesday, October 28, 2003, to receive presentations. The AP and SSC will hold separate meetings to discuss the issues and make recommendations beginning at 8:30 a.m. on Wednesday, October 29, 2003, and will conclude by 5 p.m.

ADDRESSES: The meetings will be held at the Hilton Tampa Airport Westshore Hotel, 2225 Lois Avenue, Tampa, FL; telephone: 813-877-6688.

Council address: Gulf of Mexico Fishery Management Council, 3018 U.S. Highway 301 North, Suite 1000, Tampa, FL 33619.

FOR FURTHER INFORMATION CONTACT: Mr. Steven Atran, Population Dynamics Statistician, the Gulf of Mexico Fishery Management Council, 3018 U.S. Highway 301 North, Suite 1000, Tampa, FL 33619; telephone 813-228-2815.

SUPPLEMENTARY INFORMATION: The AP and the SSC will convene to review a yellowtail snapper stock assessment and a revised Reef Fish Secretarial Amendment 1 (red grouper rebuilding plan).

A yellowtail snapper stock assessment was prepared by the Florida Marine Research Institute (FMRI) on behalf of the Florida Fish and Wildlife Conservation Commission, the Gulf of Mexico Fishery Management Council, and the South Atlantic Fishery Management Council. The assessment was conducted using a process known as Southeast Data Assessment and Review (SEDAR). Under this process, a SEDAR Data Workshop was held on March 3-7, 2003, to bring researchers, managers, fishermen and environmental organization representatives together to review the available scientific information on yellowtail snapper, goliath grouper and vermilion snapper. A SEDAR Assessment Workshop was then held on June 9-13, 2003, to again bring researchers, managers, fishermen and environmental representatives together to conduct the actual assessment. A draft stock assessment from that workshop was presented to a SEDAR Assessment Review Workshop held in Tampa July 28-31, 2003. The review workshop, in addition to convening researchers, managers, fishermen and environmental organization representatives, also included several assessment experts from outside of the Gulf region, including two provided by the University of Miami's Center for Independent Experts. Based on the results of the Assessment Review Workshop, a final version of the yellowtail snapper stock assessment was prepared, along with recommendations of the Assessment Review Workshop on the status of the stock and selection of status determination criteria (maximum fishing mortality rate, minimum stock size threshold, and optimum yield). These recommendations were presented to the Gulf Council's Socioeconomic Panel on September 10-12, 2003. The yellowtail snapper stock assessment, recommendations of the SEDAR Assessment Review Panel, and Socioeconomic Panel will be presented during the joint AP/SSC session on October 28, 2003. Afterwards, the AP and SSC will meet separately on October 29, 2003, to discuss the issues and make recommendations to the Gulf Council.

Red grouper were declared overfished by NMFS in October 2000, based on a 1999 assessment plus additional analyses conducted in 2000. A 2002 stock assessment by NMFS found that the red grouper stock was back above its minimum stock size threshold, but it had been below the threshold in 1999, confirming the need for a rebuilding plan to restore the stock to a level capable of producing maximum sustainable yield on a continuing basis. In May 2003, the Council submitted Reef Fish Secretarial Amendment 1 to NMFS that called for approximately a 10 percent reduction in harvest, to be achieved through a reduction in the commercial shallow-water grouper quota, replacing the February 15 to March 15 commercial closed season on gag, red and black grouper with a shallow-water grouper trip limit, and a recreational bag limit of no more than two red grouper (out of the 5 aggregate grouper bag limit). The rebuilding plan also proposed a reduction in the deep-water grouper quota and setting of a tilefish quota in order to discourage effort shifting to those stocks. NMFS has reviewed the plan as submitted by the Gulf Council and has made revisions to it. These revisions will be presented during the joint AP/SSC session on October 28, 2003. The AP and SSC will then meet separately on October 29, 2003, to discuss the issues and make recommendations to the Gulf Council.

Although other non-emergency issues not on the agenda may come before the AP/SSC for discussion, in accordance with the Magnuson-Stevens Fishery Conservation and Management Act, those issues may not be the subject of formal action during these meetings. Actions of the AP/SSC will be restricted to those issues specifically identified in the agendas and any issues arising after publication of this notice that require emergency action under Section 305(c) of the Magnuson-Stevens Act, provided the public has been notified of the Council's intent to take action to address the emergency.

Special Accommodations

Copies of the agendas of these meetings and the stock assessments can be obtained by calling the Council office at 813-228-2815 (toll-free 888-833-1844). Additional materials, including the Reef Fish Stock Assessment Panel report and the Socioeconomic Panel (SEP) report, can also be obtained from the Council office or downloaded from the Council website (http://www.gulfcouncil.org) but the SEP report may not be available until just prior to the meetings. This meeting is physically accessible to people with disabilities. Requests for sign language interpretation or other auxiliary aids should be directed to Anne Alford at the Council (see ADDRESSES) by October 17, 2003.

Dated: October 06, 2003.
Richard W. Surdi,
Acting Director, Office of Sustainable Fisheries, National Marine Fisheries Service.

[FR Doc. 03-25819 Filed 10-9-03; 8:45 am]

BILLING CODE 3510-22-S